DEPARTMENT OF THE INTERIOR

Bureau of Land Management

[LLCOF02000 L51100000.GL0000 LVEMC2000600 20X]

Notice of Availability of the Final Environmental Impact Statement for the Proposed Competitive Mineral Materials Sale (COC-078119) at Parkdale, Fremont County, CO

AGENCY: Bureau of Land Management, Interior.

ACTION: Notice of availability.

SUMMARY: In accordance with the National Environmental Policy Act of 1969, as amended, and the Federal Land Policy and Management Act of 1976 (FLPMA), as amended, the Bureau of Land Management (BLM) Royal Gorge Field Office, Canon City, Colorado, has prepared a Final Environmental Impact Statement (EIS) for a proposed competitive mineral materials sale at Parkdale, Freemont County, Colorado, and by this notice is announcing its availability.

DATES: The BLM will not issue a final decision until July 13, 2020.

ADDRESSES: Copies of the Final EIS for the Proposed Competitive Mineral Materials Sale (COC-078119) at Parkdale, Fremont County, Colorado are available for review by appointment at the BLM Royal Gorge Field Office, 3028 East Main Street, Canon City, CO 81212. Please call (719) 269-8500 to request an appointment. The Final EIS is also available online at https://go.usa.gov/xy6tn. Click the “Documents” link on the left side of the screen to find the electronic version of the document.

FOR FURTHER INFORMATION CONTACT: Stephanie Carter, Geologist; telephone: (719) 269-8551; address: 3028 East Main Street, Canon City, CO 81212; email: sscarter@blm.gov. Persons who use a telecommunications device for the deaf (TDD) may call the Federal Relay Service (FRS) at 1-800-877-8339 to contact Ms. Carter during normal business hours. The FRS is available 24 hours a day, 7 days a week, to leave a message or question. You will receive a reply during normal business hours.

SUPPLEMENTARY INFORMATION: The BLM has prepared a Final EIS to evaluate an application from Martin Marietta Materials, Inc. for a contract to mine 400-million net tons of aggregate reserves located on BLM managed lands, adjacent to their existing hard rock quarry northwest of Canon City, Colorado. The aggregate reserves consist of a granodiorite bedrock that will be mined utilizing blasting, crushing, and screening methods. The mining activity would be conducted on up to approximately 700 acres of BLM lands for up to 100 years, at a production of 4-million tons annually. The aggregate would be used in the production of asphalt and concrete, as well as a source of railroad ballast.

On July 31, 2019, the BLM published a Notice of Intent to prepare an EIS, initiating public scoping to identify issues through public participation and collaboration with partners (84 FR 37334). Initial scoping with internal staff, cooperating agencies and the public identified concerns related to air quality, inventoried lands with wilderness characteristics, wildlife and plant habitat, visual resources, as well as local and regional economies.

The purpose of this action is to respond to the applicant's request to obtain a renewable competitive contract to sell mineral materials located immediately adjacent to the existing Parkdale Quarry in Fremont County, Colorado. The need for the action is based on the BLM's multiple-use mission as set forth in FLPMA, which mandates that the public land resources be managed for a variety of uses, including mining. Pursuant to 30 U.S.C. 1602, the project would assist in the pursuit of measures that would assure the availability of materials critical to commerce, the economy and national security, and facilitate development of domestic resources to meet critical materials needs.

The BLM published a Notice of Availability on February 7, 2020, announcing the public comment period for the Draft EIS (85 FR 7329). The Draft EIS included alternatives that responded to the purpose and need, quantified the impacts to visual resources and air quality, and addressed strategies to minimize impacts to bighorn sheep populations. The Draft EIS was available for a 45-day public comment period. The BLM hosted a public meeting on February 26, in Canon City, Colorado, and received 145 comment submissions.

The Draft EIS evaluated in detail the Proposed Action (Alternative A), the No Action Alternative (Alternative B) and one action alternative (Alternative C). After the public comment period closed, the BLM prepared a Final EIS, which reflects changes and adjustments based on information received during both internal and public comment on the Draft EIS. These changes specifically target surface and groundwater monitoring, design features, the mitigation framework, a more detailed performance-based reclamation protocol and revocation of two federal water reserve withdrawals.

In all alternatives, reclamation would be ongoing, following mining activity in an area, as soon as conditions would be feasible. Details of Alternative A include: Mined material would be used for concrete, asphalt, and railroad ballast products and would take place on approximately 700 acres of BLM-administered public lands for up to 100 years; the southwestern boundary of the proposed mining area would border the Arkansas River Canyonlands Area of Critical Environmental Concern (ACEC); surface mining would progress in five phases; mining direction for each phase would be from northwest to southeast, creating a “mine from behind” visual scenario from the Highway 50 corridor. Alternative B (no action) does not include any Federal interests and involves the continuation of surface mining on the existing private aggregate reserves, anticipated to last 15-30 years, with aggregate produced only for concrete and asphalt products. Alternative B consists of three phases, with the mining direction for phases 1 and 2 being west to east and phase 3 being north to south. Details on Alternative C include: Mined material would be used for concrete, asphalt, and railroad ballast products and would take place on approximately 633 acres of BLM-administered public lands for up to 100 years; the boundary of this footprint would not border the Arkansas River Canyonlands ACEC; surface mining would progress in six phases; mining direction for each phase would vary, so a “mine from behind” visual scenario from the Highway 50 corridor may not always be achieved.

The BLM did not identify a preferred alternative in the Draft EIS, but has identified a preferred alternative (Alternative A) in the Final EIS, as required by the Council on Environmental Quality regulations. Alternative A includes the footprint that appears to minimize the effects to visual resources from key observation points, and groundwater in areas to the south, as it relates to the proposed mining.The BLM considered comments on the Draft EIS received from the public, cooperating agencies and internal BLM review, and made changes in the Final EIS as appropriate. Public comments resulted in adding clarifying text and correcting data discrepancies in the EIS but did not significantly change the alternatives.

(Authority: 40 CFR 1506.6, 40 CFR 1506.10)

Jamie E. Connell,
Colorado State Director.

[FR Doc. 2020-12608 Filed 6-11-20; 8:45 am]

BILLING CODE 4310-JB-P